FEDERAL COMMUNICATIONS COMMISSION

Notice of Public Information Collection(s) Being Reviewed by the Federal Communications Commission, Comments Requested

June 8, 2004.

SUMMARY: The Federal Communications Commission, as part of its continuing effort to reduce paperwork burden invites the general public and other Federal agencies to take this opportunity to comment on the following information collection(s), as required by the Paperwork Reduction Act (PRA) of 1995, Pub. L. No. 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 16, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION:

OMB Control Number: 3060-0609.

Title: Section 76.934(e), Petitions for Extension of Time.

Form Number: N/A.

Type of Review: Revision of a currently approved collection.

Respondents: Businesses or other for-profit entities; and State, local, or tribal governments.

Number of Respondents: 20.

Estimated Time per Response: 4 hours.

Frequency of Response: Recordkeeping; On occasion reporting requirement; Third party disclosure.

Total Annual Burden: 80 hours.

Total Annual Costs: None.

Privacy Impact Assessment: No.

Needs and Uses: Small cable systems may obtain an extension of time to establish compliance regulations provided that they can demonstrate that timely compliance would result in economic hardship. Requests for an extension of time are addressed to local franchising authorities concerning rates for basic service tiers.

OMB Control Number: 3060-0633.

Title: Station Licenses—Sections 73.1230, 74.165, 74.432, 74.564, 74.664, 74.765, 74.832, 74.965, 74.1265.

Form Number: N/A.

Type of Review: Extension of currently approved collection.

Respondents: Businesses or other for-profit entities; Not-for-profit institutions.

Number of Respondents: 5,875.

Estimated Time per Response: 0.083 hours (5 minutes).

Frequency of Response: Recordkeeping; On occasion reporting requirements; Third party disclosure.

Total Annual Burden: 488 hours.

Total Annual Cost: $80,420.

Privacy Impact Assessment: No impact(s).

Needs and Uses: Licenses of broadcast stations are required to post, file or have available a copy of the instrument of authorization at the station and/or transmitter site. The FCC and the public use the information posted at the transmitter site to know to whom the transmitter is licensed, which ensures that the station is licensed and operating in the manner specified by the license.

OMB Control Number: 3060-0685.

Title: Annual Updating of Maximum Permitted Rates for Regulated Cable Services, FCC Form 1240.

Form Number: FCC 1240.

Type of Review: Revision of currently approved collection.

Respondents: Business or other for-profit entities; and State, local, or tribal government.

Number of Respondents: 3,000.

Estimated Time per Response: 10 hour (avg.).

Frequency of Response: Annual reporting requirement.

Total Annual Burden: 30,000 hours.

Total Annual Cost: $562,500.

Privacy Impact Assessment: No impact(s).

Needs and Uses: The FCC Form 1240 is filed with the local franchising authorities (“LFAs”) by cable operators seeking to adjust maximum permitted rates to reflect changes in external costs. The Commission authored the Form 1240 to enable local franchising authorities to adjudicate permitted rates for regulated cable rates, services, and equipment; for the additional and/or deletion of channels; and for allowance for pass through of external costs due to inflation.

Federal Communications Commission.
Marlene H. Dortch,
Secretary.

[FR Doc. 04-13488 Filed 6-15-04; 8:45 am]

BILLING CODE 6712-10-M